DEPARTMENT OF COMMERCE

International Trade Administration

[A-489-807]

Steel Concrete Reinforcing Bars From Turkey; Notice of Extension of Time Limits for Antidumping Duty Administrative Review

AGENCY: Import Administration, International Trade Administration, Department of Commerce.

SUMMARY: The Department of Commerce is extending the time limits of the preliminary results of the antidumping duty administrative review on steel concrete reinforcing bars from Turkey. The review covers four producers/exporters of the subject merchandise to the United States. The period of review is April 1, 1999, through March 31, 2000.

EFFECTIVE DATE: October 10, 2000.

FOR FURTHER INFORMATION CONTACT: Irina Itkin at (202) 482-0656, Office of AD/CVD Enforcement, Import Administration, International Trade Administration, U.S. Department of Commerce, 14th Street and Constitution Avenue, NW., Washington, DC 20230.

SUPPLEMENTARY INFORMATION: Because it is not practicable to complete this administrative review within the time limits mandated by section 751(a)(3)(A) of Tariff Act of 1930, as amended by the Uruguay Round Agreements Act, the Department is extending the time limit for completion of the preliminary results. This review involves a number of complicated issues including high inflation in Turkey during the period of review. Moreover, the petitioners requested that the Department conduct verification, pursuant to section 782(i)(3)(A) of the Act. Therefore, we intend to verify the sales and cost information submitted by the four respondents. Because the Department will not be able to conduct verification before the scheduled preliminary results, we have extended the deadline until April 30, 2001.

This extension is in accordance with section 751(a)(3)(A) of the Act (19 U.S.C. 1675(a)(3)(A)) and 19 CFR 351.213(h)(2).

Dated: October 3, 2000.
Richard W. Moreland
Deputy Assistant Secretary for Import Administration.

[FR Doc. 00-25971 Filed 10-6-00; 8:45 am]

BILLING CODE 3510-DS-P